ENVIRONMENTAL PROTECTION AGENCY

40 CFR Part 745

[EPA-HQ-OPPT-2004-0126; FRL-8358-6]

Lead Hazard Information Pamphlet; Notice of Availability

AGENCY: Environmental Protection Agency (EPA).

ACTION: Notice of availability.

SUMMARY: This notice announces the availability of EPA's new lead hazard information pamphlet for renovation activities, Renovate Right: Lead Hazard Information for Families, Child Care Providers and Schools (Renovate Right). There is an increased risk of exposure to lead-based paint hazards during renovation activities, particularly for children under 6 years of age. To better inform families, child care providers, and schools about the risks and to encourage greater public health and safety during renovation activities in target housing and child-occupied facilities, EPA has developed a renovation-specific information pamphlet. This new pamphlet gives information on lead-based paint hazards, lead testing, how to select a contractor, what precautions to take during the renovation, and proper cleanup activities.

DATES: After June 23, 2008, the new pamphlet or Protect Your Family From Lead in Your Home may be used for compliance with the Pre-Renovation Education Rule under TSCA section 406(b). After December 22, 2008, the new pamphlet must be used exclusively.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Mike Wilson, National Program Chemicals Division, Office of Pollution Prevention and Toxics, Environmental Protection Agency, 1200 Pennsylvania Ave., NW., Washington, DC 20460-0001; telephone number (201) 566-0521; e-mail address: wilson.mike@epa.gov.

SUPPLEMENTARY INFORMATION:

I. General Information

A. Does this Action Apply to Me?

You may be potentially affected by this action if you perform renovations of target housing or child-occupied facilities for compensation. “Target housing” is defined in section 401 of TSCA as any housing constructed prior to 1978, except housing for the elderly or persons with disabilities (unless any child under age 6 resides or is expected to reside in such housing) or any 0-bedroom dwelling. EPA's Renovation, Repair, and Painting rule defines a child-occupied facility as a building, or a portion of a building, constructed prior to 1978, visited regularly by the same child, under 6 years of age, on at least 2 different days within any week (Sunday through Saturday period), provided that each day's visit lasts at least 3 hours and the combined weekly visits last at least 6 hours, and the combined annual visits last at least 60 hours. Child-occupied facilities may be located in public or commercial buildings or in target housing. Potentially affected entities may include, but are not limited to:

• Building construction (NAICS code 236), e.g., single family housing construction, multi-family housing construction, residential remodelers.

• Specialty trade contractors (NAICS code 238), e.g., plumbing, heating, and air-conditioning contractors, painting and wall covering contractors, electrical contractors, finish carpentry contractors, drywall and insulation contractors, siding contractors, tile and terrazzo contractors, glass and glazing contractors.

• Real estate (NAICS code 531), e.g., lessors of residential buildings and dwellings, residential property managers.

• Child day care services (NAICS code 624410).

• Elementary and secondary schools (NAICS code 611110), e.g., elementary schools with kindergarten classrooms.

This listing is not intended to be exhaustive, but rather provides a guide for readers regarding entities likely to be affected by this action. Other types of entities not listed in this unit could also be affected. The North American Industrial Classification System (NAICS) codes have been provided to assist you and others in determining whether this action might apply to certain entities. To determine whether you or your business may be affected by this action, you should carefully examine the applicability provisions in 40 CFR 745.82. If you have any questions regarding the applicability of this action to a particular entity, consult the technical person listed under FOR FURTHER INFORMATION CONTACT.

B. How Can I Get Copies of the Pamphlet and Other Related Information?

1. The pamphlet. Single copies of the pamphlet may be obtained by calling the National Lead Information Clearinghouse (NLIC) at 1-800-424-LEAD or TDD: 1-800-526-5456, or the EPA Public Information Center at (202) 260-2080. Multiple copies are available through the Government Printing Office (GPO). The public may order by calling the GPO Order Desk at (202) 512-1800, faxing (202) 512-2233, or writing to Superintendent of Documents, P.O. Box 371954, Pittsburgh, PA 15250-7954. Request the publication by title, Renovate Right: Lead Hazard Information for Families, Child Care Providers and Schools. The pamphlet is also available on EPA's website at http://www.epa.gov/lead. The pamphlet may be reproduced by an individual or corporation without permission from EPA.

2. Docket. EPA has established a docket for this action under docket identification (ID) number EPA-HQ-OPPT-2004-0126. All documents in the docket are listed in the docket's index available at http://www.regulations.gov. Although listed in the index, some information is not publicly available, e.g., Confidential Business Information (CBI) or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave., NW., Washington, DC. The EPA/DC Public Reading Room hours of operation are 8:30 a.m. to 4:30 p.m., Monday through Friday, excluding Federal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

3. Electronic access. You may access this Federal Register document electronically through the EPA Internet under the “Federal Register” listings at http://www.epa.gov/fedrgstr.

II. Background

EPA has determined that there is a need for a new information pamphlet that addresses renovation-specific lead exposure concerns. Existing regulations at 40 CFR part 745, subpart E, require each person who performs a renovation for compensation of target housing (as defined under 40 CFR 745.103) to provide a lead hazard information pamphlet to owners and occupants of such housing prior to commencing the renovation. These regulations implement TSCA section 406(b). The pamphlet currently used, Protect Your Family From Lead in Your Home, was developed as directed by TSCA section 406(a).

Renovation activities create an increased risk of exposure to lead-based paint hazards, particularly for children under 6 years of age, and the renovation-specific pamphlet will better inform families about such risks and encourage greater public health and safety during renovation activities in target housing and child-occupied facilities. This new pamphlet gives information on lead-based paint hazards, lead testing, how to select a contractor, what precautions to take during the renovation, and proper cleanup activities, while still incorporating the information already included in the original pamphlet and required by TSCA section 406(a).

In addition, EPA has modified Renovate Right to provide information on new requirements to minimize the introduction of lead hazards resulting from the disturbance of lead-based paint during renovation, repair, and painting activities in target housing and child-occupied facilities. These requirements are contained in a final rule published elsewhere in today's issue of the Federal Register. The Renovation, Repair, and Painting rule, issued under the authority of TSCA section 402(c)(3), applies to renovations performed for compensation in target housing and child-occupied facilities. Among other things, the rule establishes requirements for training renovators and other renovation workers; for certifying renovators and renovation firms; for accrediting providers of renovation training; for renovation work practices; and for recordkeeping. The work practice standards apply to all persons who do renovation for compensation, including renovation contractors, maintenance workers in multi-family housing, painters, and contractors in other specialty trades. The rule also modifies the existing regulations at 40 CFR part 745, subpart E, that implement TSCA section 406(b) to allow and then require the distribution of Renovate Right instead of the current pamphlet,Protect Your Family From Lead in Your Home, to owners and occupants of target housing. Finally, the rule requires persons performing renovations for compensation in child-occupied facilities to provideRenovate Right to the owner of the building and the proprietor of the child-occupied facility. In addition, renovation firms must either: (i) Provide the pamphlet and general information on the renovation to parents or guardians of children under age 6 using the facility, or (ii) erect signs that provide general information on the renovation accompanied by the pamphlet or information on how to obtain a copy of Renovate Right.

During the development of Renovate Right, EPA conducted focus tests to obtain feedback on the draft pamphlet's current reading level, content, and graphic presentation. EPA conducted these tests during the spring of 2004 in Washington, DC and Arlington, VA. The tests consisted of written survey questions and moderated group discussions and were conducted with a group of homeowners and separately with a group of contractors. The focus tests proved valuable in providing overall impressions of the draft pamphlet's strengths and weaknesses. As a direct result of the feedback, EPA made revisions to clarify the intended audience and goal of the pamphlet and strengthen the message that renovation and remodeling work can be done safely if done properly. Revisions included highlighting the significance of lead dust, clarifying the message about the likelihood of the presence of lead, the responsibilities of contractors, and testing options; and better describing what constitutes lead safe work practices.

In addition, EPA solicited public comments on the draft pamphlet, then entitled Protect Your Family From Lead During Renovation, Repair & Painting, through a Federal Register notice published on March 8, 2006 (71 FR 11570) (FRL-7690-8). EPA received 16 comments on the draft pamphlet, including a request that EPA consider changing the name of the pamphlet to avoid confusion with the existing pamphlet entitled Protect Your Family From Lead in Your Home. EPA changed the name of this new pamphlet and incorporated the remaining comments where appropriate. More information on the comments received and how EPA modified the pamphlet to address those comments can be found in the docket for this action.

List of Subjects in 40 CFR Part 745

Environmental protection, Child-occupied facility, Housing renovation, Lead, Lead-based paint, Renovation, Reporting and recordkeeping requirements.

Dated: March 31, 2008.
James Jones,
Acting Assistant Administrator, Office of Prevention, Pesticides and Toxic Substances.

[FR Doc. E8-8142 Filed 4-21-08; 8:45 am]

BILLING CODE 6560-50-S